DEPARTMENT OF COMMERCE

National Oceanic and Atmospheric Administration

50 CFR Part 679

[Docket No. 0812011537-9145-01]

RIN 0648-AX45

Fisheries of the Exclusive Economic Zone Off Alaska; Recordkeeping and Reporting

AGENCY: National Marine Fisheries Service (NMFS), National Oceanic and Atmospheric Administration (NOAA), Commerce.

ACTION: Final rule.

SUMMARY: NMFS issues a final rule to update regulations in 50 CFR part 679. The action would remove regulations that have lapsed and is intended to promote the goals and objectives of the Magnuson-Stevens Fishery Conservation and Management Act.

DATES: Effective February 27, 2009.

ADDRESSES: Copies of the Categorical Exclusion (CE) and Regulatory Impact Review (RIR) prepared for this action may be obtained from the NMFS Alaska Region, P.O. Box 21668, Juneau, AK 99802, or by calling the Alaska Region, NMFS, at 907-586-7228, or from the NMFS Alaska Region website at http://alaskafisheries.noaa.gov.

FOR FURTHER INFORMATION CONTACT: Patsy A. Bearden, 907-586-7008.

SUPPLEMENTARY INFORMATION: The groundfish fisheries in the exclusive economic zone (EEZ) off Alaska are managed under the Fishery Management Plan for Groundfish of the Bering Sea and Aleutian Islands Management Area and the Fishery Management Plan for Groundfish of the Gulf of Alaska (FMPs). The North Pacific Fishery Management Council prepared the FMPs under the authority of the Magnuson-Stevens Fishery Conservation and Management Act (Magnuson-Stevens Act), 16 U.S.C. 1801 et seq. Regulations implementing the FMPs appear at 50 CFR part 679. General regulations governing U.S. fisheries also appear at 50 CFR part 600.

Need for Action

In 50 CFR part 679, text is amended to remove lapsed regulatory provisions from the Code of Federal Regulations (CFR). This final rule amends regulations by removing text as follows:

Location | Amendment
679.20(a)(5)(i)(D), (E), and (F) | Remove from CFR because (F) was applicable only through December 31, 2002, and (D) and (E) were previously removed and reserved.
679.20(a)(5)(iv)(C) | Remove from CFR because this paragraph was applicable only through December 31, 2002.
679.20(c)(2) | Remove from CFR and reserve because this paragraph was applicable only until April 1, 2005.
679.20(c)(5) and (c)(6) | Remove the phrase “(Effective April 1, 2005)” because related regulations are now effective.

Classification

Pursuant to section 305(d) of the Magnuson-Stevens Act, NMFS has determined that this final rule is consistent with the FMPs and other provisions of the Magnuson-Stevens Act.

This rule has been determined to be not significant for purposes of Executive Order 12866.

This action will not increase recordkeeping and reporting costs.

Pursuant to 5 U.S.C. 553(b)(B), the Assistant Administrator of Fisheries (AA) finds good cause to waive prior notice and opportunity for public comment. Prior notice and opportunity for public comment are unnecessary because these changes remove regulatory provisions that have lapsed. For the same reason, the AA finds good cause to waive the 30-day delay in the effective date under 5 U.S.C. 553(d)(3).

Because prior notice and opportunity for public comment are not required for this rule by 5 U.S.C. 553, or any other law, the analytical requirements of the Regulatory Flexibility Act, 5 U.S.C. 601 et seq. are inapplicable.

List of Subjects in 50 CFR Part 679

Alaska, Fisheries, Recordkeeping and reporting requirements.

Dated: February 23, 2009.
Samuel D. Rauch III
Deputy Assistant Administrator for Regulatory Programs,National Marine Fisheries Service.

For the reasons set out in the preamble, 50 CFR part 679 is amended as follows:

PART 679—FISHERIES OF THE EXCLUSIVE ECONOMIC ZONE OFF ALASKA

1. The authority citation for part 679 continues to read as follows:

Authority: 16 U.S.C. 773 et seq., 1801 et seq., 3631 et seq.; Pub. L. 108-447.

§ 679.20 [Amended]

2. In § 679.20:

A. Remove paragraphs (a)(5)(i)(D), (E), and (F), and paragraph (a)(5)(iv)(C).

B. Remove and reserve paragraph (c)(2).

C. Remove the parenthetical phrase “(Effective April 1, 2005)” from paragraphs (c)(5) and (c)(6).

[FR Doc. E9-4281 Filed 2-26-09; 8:45 am]

BILLING CODE 3510-22-S